DEPARTMENT OF TRANSPORTATION

Saint Lawrence Seaway Development Corporation

33 CFR Part 401

[Docket No. SLSDC-2016-0006]

RIN 2135-AA42

Seaway Regulations and Rules: Periodic Update, Various Categories

AGENCY: Saint Lawrence Seaway Development Corporation, DOT.

ACTION: Notice of proposed rulemaking.

SUMMARY: The Saint Lawrence Seaway Development Corporation (SLSDC) and the St. Lawrence Seaway Management Corporation (SLSMC) of Canada, under international agreement, jointly publish and presently administer the St. Lawrence Seaway Regulations and Rules (Practices and Procedures in Canada) in their respective jurisdictions. Under agreement with the SLSMC, the SLSDC is amending the joint regulations by updating the Seaway Regulations and Rules in various categories. The changes will update the following sections of the Regulations and Rules: Condition of Vessels; Seaway Navigation; Radio Communications; General; and, Vessels Transiting U.S. Waters. These amendments are necessary to take account of updated procedures and will enhance the safety of transits through the Seaway. Several of the amendments are merely editorial or for clarification of existing requirements.

DATES: Comments are due February 6, 2017.

ADDRESSES: Docket: For access to the docket to read background documents or comments received, go to http://www.Regulations.gov; or in person at the Docket Management Facility; U.S. Department of Transportation, 1200 New Jersey Avenue SE., West Building Ground Floor, Room W12-140, Washington, DC 20590-001, between 9 a.m. and 5 p.m., Monday through Friday, except Federal Holidays.

FOR FURTHER INFORMATION CONTACT: Carrie Mann Lavigne, Chief Counsel, Saint Lawrence Seaway Development Corporation, 180 Andrews Street, Massena, New York 13662; 315/764-3200.

SUPPLEMENTARY INFORMATION: The Saint Lawrence Seaway Development Corporation (SLSDC) and the St. Lawrence Seaway Management Corporation (SLSMC) of Canada, under international agreement, jointly publish and presently administer the St. Lawrence Seaway Regulations and Rules (Practices and Procedures in Canada) in their respective jurisdictions. Under agreement with the SLSMC, the SLSDC is amending the joint regulations by updating the Regulations and Rules in various categories. The changes will update the following sections of the Regulations and Rules: Condition of Vessels; Seaway Navigation; Radio Communications; General; and, Vessels Transiting U.S. Waters. These updates are necessary to take account of updated procedures which will enhance the safety of transits through the Seaway. Many of these changes are to clarify existing requirements in the regulations. Where new requirements or regulations are made, an explanation for such a change is provided below.

Regulatory Notices: Privacy Act: Anyone is able to search the electronic form of all comments received into any of our dockets by the name of the individual submitting the comment (or signing the comment, if submitted on behalf of an association, business, labor union, etc.). You may review DOT's complete Privacy Act Statement in the Federal Register published on April 11, 2000 (Volume 65, Number 70; Pages 19477-78) or you may visit http://www.Regulations.gov.

The SLSDC is amending two sections of the Condition of Vessels portion of the joint Seaway regulations. In section 401.08, “Landing booms”, the two Corporations are proposing to require vessels with freeboard greater than 2 m and not equipped with landing booms to use the Seaway tie-up service at approach walls. Under the current rules, crew members on vessels with freeboard greater than 2 m and no landing booms jump approximately 4-6 feet from the vessel to the approach wall. This proposed rule would eliminate the safety risks associated with this practice.

In 401.9, “Radio telephone and navigation equipment”, the SLSDC and SLSMC are proposing to require that vessels maintain radio transmitters on board that are fitted to communicate on additional VHF channels to reduce possible interference from channels transmitting lock operation instructions to vessels via specially designated VHF channels.

In the Seaway Navigation portion of the regulations, a change to Section 401.44, “Mooring in locks”, is being proposed that would require one crew member to be present on deck during lockage to assist the Bridge team. A change to 401.89, “Transit refused” of the General section of the regulations would clarify that vessels need to be in compliance with Transport Canada's Marine Safety and Security regulations in order to transit the Seaway.

The other changes to the joint regulations are merely editorial or to clarify existing requirements.

Regulatory Evaluation

This proposed regulation involves a foreign affairs function of the United States and therefore, Executive Order 12866 does not apply and evaluation under the Department of Transportation's Regulatory Policies and Procedures is not required.

Regulatory Flexibility Act Determination

I certify that this proposed regulation will not have a significant economic impact on a substantial number of small entities. The St. Lawrence Seaway Regulations and Rules primarily relate to commercial users of the Seaway, the vast majority of who are foreign vessel operators. Therefore, any resulting costs will be borne mostly by foreign vessels.

Environmental Impact

This proposed regulation does not require an environmental impact statement under the National Environmental Policy Act (49 U.S.C. 4321, et seq.) because it is not a major federal action significantly affecting the quality of the human environment.

Federalism

The Corporation has analyzed this proposed rule under the principles and criteria in Executive Order 13132, dated August 4, 1999, and have determined that this proposal does not have sufficient federalism implications to warrant a Federalism Assessment.

Unfunded Mandates

The Corporation has analyzed this proposed rule under Title II of the Unfunded Mandates Reform Act of 1995 (Pub. L. 104-4, 109 Stat. 48) and determined that it does not impose unfunded mandates on State, local, and tribal governments and the private sector requiring a written statement of economic and regulatory alternatives.

Paperwork Reduction Act

This proposed regulation has been analyzed under the Paperwork Reduction Act of 1995 and does not contain new or modified information collection requirements subject to the Office of Management and Budget review.

List of Subjects in 33 CFR Part 401

Hazardous materials transportation, Navigation (water), Penalties, Radio, Reporting and recordkeeping requirements, Vessels, Waterways.

Accordingly, the Saint Lawrence Seaway Development Corporation is proposing to amend 33 CFR part 401, Regulations and Rules, as follows:

PART 401—SEAWAY REGULATIONS AND RULES

Subpart A—Regulations

1. The authority citation for subpart A of part 401 continues to read as follows:

Authority: 33 U.S.C. 983(a) and 984(a) (4), as amended; 49 CFR 1.52, unless otherwise noted.

2. In § 401.8, redesignate paragraph (c) as paragraph (d) and add new paragraph (c) to read as follows:

§ 401.8 Landing booms.

* * * * *

(c) Vessels with freeboard greater than 2 m and not equipped with landing booms shall utilize the Seaway tie-up service at approach walls.

* * * * *

3. In § 401.9, revise paragraph (b)(2) to read as follows:

§ 401.9 Radio telephone and navigation equipment.

* * * * *

(b) * * *

(2) Be fitted to operate from the conning position in the wheelhouse and to communicate on channels 11, 12, 13, 14, 15, 16, 17, 66a, 75, 76 and 77.

* * * * *

4. In § 401.29, revise paragraph (c)(2)(iii), redesignate paragraph (c)(2)(iv) as paragraph (c)(2)(v) and add a new paragraph 2(c)(iv) to read as follows:

§ 401.29 Maximum draft.

* * * * *

(c) * * *

(2) * * *

(iii) Any vessel intending to use the DIS for the first time must notify the Manager of the Corporation in writing at least 24 hours prior to the commencement of its initial transit in the System with the DIS.

(iv) In every navigation season a vessel intending to use an approved DIS to transit the System must fax a completed confirmation checklist found at www.greatlakes-seaway.com to the Manager or the Corporation prior to its initial transit of the season.

* * * * *

5. In § 401.44, revise paragraph (d) to read as follows:

§ 401.44 Mooring in locks.

* * * * *

(d) Vessels being moored by a “Hands Free Mooring” (HFM) system shall have a minimum of 1 well rested crew member on deck during the lockage to assist the Bridge team.

6. In § 401.58, revise paragraph (b) to read as follows:

§ 401.58 Pleasure craft scheduling.

* * * * *

(b) Every pleasure craft seeking to transit Canadian locks shall stop at a pleasure craft dock and arrange for transit by contacting the lock personnel using the direct-line phone and make the lockage fee payment by purchasing a ticket using the automated ticket dispensers or prior to transiting Seaway locks, purchase a ticket through PayPal on the Seaway Web site.

7. In § 401.64, revise paragraph (c) to read as follows:

§ 401.64 Calling in.

* * * * *

(c) A down bound vessel in St. Lambert Lock shall switch to channel 10 (156.5 MHz) for a traffic report from Quebec Vessel Management Center.

* * * * *

8. In § 401.89, revise paragraph (d) as follows:

§ 401.89 Transit refused.

* * * * *

(d) The vessel is not in compliance with Transport Canada Marine Safety and Security, flag state and/or classification society regulations.

9. In Part 401, Schedule I, redesignate paragraphs (c) and (d) as paragraphs (d) and (e), respectively, and add a new paragraph (c) to read as follows:

Schedule I to Subpart A of Part 401—Vessels Transiting U.S. Waters

* * * * *

(c) U.S. Coast Pilot, current edition.

* * * * *

Issued at Washington, DC, on December 30, 2016.
Saint Lawrence Seaway Development Corporation.
Carrie Lavigne,
Chief Counsel.

[FR Doc. 2016-32000 Filed 1-4-17; 8:45 am]

BILLING CODE 4910-61-P